DEPARTMENT OF AGRICULTURE

Food and Nutrition Service

7 CFR Part 274

RIN 0584-AD48

Supplemental Nutrition Assistance Program, Regulation Restructuring: Issuance Regulation Update and Reorganization To Reflect the End of Coupon Issuance Systems

AGENCY: Food and Nutrition Service (FNS), USDA.

ACTION: Affirmation of direct final rule as final rule.

SUMMARY: The Food and Nutrition Service (FNS) is adopting as a final rule, without change, a direct final rule that made changes to the Supplemental Nutrition Assistance Program (SNAP) regulations to account for the replacement of the paper coupon issuance system with the Electronic Benefits Transfer (EBT) system as the nationwide method of distributing benefits to program participants. This action is in accordance with the Food, Conservation, and Energy Act of 2008, Public Law 110-246, (the 2008 Farm Bill) which prohibited State agencies from issuing paper food stamp coupons and made EBT cards the sole method of benefit delivery. The 2008 Farm Bill also de-obligated paper coupons as legal tender as of June 18, 2009. Therefore, paper coupons no longer have any value and can no longer be redeemed at any store.

In line with EBT implementation and the elimination of coupons, these changes remove coupon issuance and EBT pilot regulations that are no longer applicable, revise regulatory language to more appropriately reflect the new EBT issuance system and the Program's new name, and reorganize sections to develop a more cohesive set of issuance regulations.

DATES: Effective December 29, 2010, the Food and Nutrition Service adopted as a final rule the direct final rule published at 75 FR 18377 on April 12, 2010. The effective date of that direct final rule was June 11, 2010.

FOR FURTHER INFORMATION CONTACT: Andrea Gold, Chief, Retailer Management and Issuance Branch, Benefit Redemption Division (703) 305-2456.

SUPPLEMENTARY INFORMATION:

Background

On April 12, 2010, the Food and Nutrition Service (FNS) published a direct final rule entitled, Supplemental Nutrition Assistance Program, Regulation Restructuring: Issuance Regulation Update and Reorganization To Reflect the End of Coupon Issuance Systems, that made changes to the SNAP regulations to account for the replacement of the paper coupon issuance system with the EBT system as the nationwide method of distributing benefits to program recipients. FNS published a direct final rule to expedite implementation of the rule's provision, while allowing public input. Comments were invited on the rule and the comment period ended on May 12, 2010.

FNS received one comment in response to the direct Final Rule that misinterpreted the intent of the rule. The comment addressed the new citation at 7 CFR 274.6(a)(3)(i) regarding replacement issuances for food lost in a household misfortune. The commenter believed that the regulation was changed to only allow benefits used for food purchased 10 days prior to the misfortune to be replaced. To the contrary, the new language merely removed obsolete coupon and authorization document references and now reads, “the report will be considered timely if it is made to the State agency within 10 days of the date food purchased with Program benefits is destroyed in a household misfortune.” The focus of this statement is on when households must report the food loss, not on the date the food was purchased. Therefore, as required by the previous language, households must report the food loss within 10 days after the date the food was destroyed. The food must be food that was purchased with SNAP benefits. The date when the food was actually purchased has no bearing on the amount of the issuance replacement.

The Department's Office of the General Counsel reviewed the comment and clarification and determined that because the comment was based on a misreading of the language, it would not have to be considered a material comment that would prevent FNS from adopting the direct final rule as a final rule.

List of Subjects in 7 CFR Part 274

SNAP, Grant programs-social programs, Reporting and recordkeeping requirements.

Supplemental Nutrition Assistance Program, Regulation Restructuring: Issuance Regulation Update and Reorganization to Reflect the End of Coupon Issuance Systems

Accordingly, FNS is adopting as a final rule, without change, the direct final rule that amended 7 CFR part 274 and was published at 75 FR 18377 on April 12, 2010.

Dated: November 24, 2010.
Julia Paradis,
Administrator, Food and Nutrition Service.

[FR Doc. 2010-32686 Filed 12-28-10; 8:45 am]

BILLING CODE 3410-30-P